SOCIAL SECURITY ADMINISTRATION

[Docket No: SSA-2021-0027]

Agency Information Collection Activities: New Emergency Request

The Social Security Administration (SSA) publishes a list of information collection packages requiring clearance by the Office of Management and Budget (OMB) in compliance with Public Law 104-13, the Paperwork Reduction Act of 1995, effective October 1, 1995. This notice includes a new, emergency information collection.

SSA is asking OMB for approval of this information collection seven days after the date of publication of this Federal Register Notice, independent of public comment, due to its emergency nature. However, we still welcome comment on the accuracy of the agency's burden estimate; the need for the information; its practical utility; ways to enhance its quality, utility, and clarity; and ways to minimize burden on respondents, including the use of automated collection techniques or other forms of information technology. We will consider any comments if we ultimately seek to extend this information collection beyond the standard six-month emergency approval. Mail, email, or fax your comments and recommendations on the information collection(s) to the OMB Desk Officer and SSA Reports Clearance Officer at the following addresses or fax numbers.

(OMB) Office of Management and Budget, Attn: Desk Officer for SSA.

Comments: https://www.reginfo.gov/public/do/PRAMain. Submit your comments online referencing Docket ID Number [SSA-2021-0027].

(SSA) Social Security Administration, OLCA, Attn: Director, Office of Regulations and Reports Clearance, 3100 West High Rise, 6401 Security Blvd., Baltimore, MD 21235, Fax: 410-966-2830, Email address: OR.Reports.Clearance@ssa.gov. Or you may submit your comments online through https://www.reginfo.gov/public/do/PRAMain, referencing Docket ID Number [SSA-2021-0027]. We recommend submitting comments via this link as the fastest way for them to reach us.

SSA is submitting the information collection below to OMB for clearance. If you wish to submit comments, we recommend you do so no later than January 3, 2022. However, please be aware that due to the emergency nature of this collection, SSA will be seeking OMB clearance in advance of this date. Individuals may obtain copies of this OMB clearance package by writing to OR.Reports.Clearance@ssa.gov.

COVID-19 Symptoms Screener for In-Person Hearings—20 CFR 404.929, 404.933, 416.1429, 416.1433, 418.1350, and 422.203—0960-NEW. Following a temporary pause on in-person service, such as in-person hearings due to the COVID-19 pandemic, SSA will soon restart in-person hearings on a limited basis. When SSA resumes these limited in-person hearings, we will ask participating members of the public to complete a brief COVID-19 symptoms screener questionnaire within 24 hours of their hearings.

Background

During the recent COVID-19 pandemic, SSA conducted its services almost exclusively online or by telephone, to protect the health of both the public and our employees. We took these measures in accordance with relevant Centers for Disease Control COVID-19 pandemic guidance, and to comply with existing Occupational Safety and Health Act provisions regarding workplace safety.

While in-person hearings have not been available since March 2020, claimants or their appointed representatives who wished to appeal a redetermination could choose to participate in an online video hearing or phone hearing instead. We would like to soon resume in-person hearings on a limited-capacity basis. Initially, we plan to keep the number of in-person hearings to an average of three separate hearings per hearings office per day, to ensure the continued health and safety of the public and SSA employees. The number of in-person hearings per hearing office may be revised over the course of reentry.

Need for Information Collection; Collection Methodology; How Information Will Be Used

Because of COVID-19 health and safety considerations, we plan to require all members of the public entering an SSA hearing office to participate in an in-person hearing to complete a brief screener questionnaire designed to identify COVID-19 symptoms. A link to the questionnaire will be provided in the mailed notice of scheduled hearings. People participating in a hearing can complete and submit the questionnaire online within 24 hours before the start of the hearing. If hearings participants do not wish to use the internet, they can call the hearings office where the hearing is scheduled and complete the questionnaire over the phone.

The questionnaire will ask questions relating to personal experience of any COVID symptoms; exposure to someone diagnosed with COVID; or travel by means other than land travel, such as car, bus, ferry, or train. SSA will use the screener responses to determine if the in-person hearings participant is “cleared” or “not cleared” to enter an SSA hearing office. If participants answer “no” to all questions, they are “cleared” to participate. If they answer “yes” to any part of the screener, they will be “not cleared.” Persons who are not cleared may seek to be rescheduled for the next in-person hearing date that at least 14 days after the COVID-19 symptoms first presented, or 14 days after they tested positive for COVID-19.

Alternatives to Completing the Information Collection

Although completion of the questionnaire will be required for an in-person hearing, it is not required for other modalities of appeals hearings. One may choose an online video hearing or telephone hearing as an alternative to an in-person hearing. Claimants may obtain Social Security payments regardless of the hearing method they choose.

Type of Request: New (temporary, emergency) information collection.

Modality of completion | Number of respondents | Frequency of response | Average burden per response (minutes) | Estimated total annual burden (hours) | Average theoretical hourly cost amount (dollars) * | Average wait time in hearing office (minutes) ** | Total annual opportunity cost (dollars) ***
COVID Screener Questionnaire | 179,580 (164 hearing offices × 3 hearings per office per day × 2 persons per hearing × 182.5 days, which is the duration of the emergency information collection request (ICR)) | 1 | 10 | 29,930 (179,580 respondents × 10 completion minutes/60 minutes per burden hour) | $19.01* | 10** | $1,934,496*** (29,930 response hours + 71,832 office wait time hours = 101,762 total hours. Then multiply 101,762 hours × $19.01).
* We based this figure on averaging both the average disability insurance (DI) payments based on SSA's current fiscal year (FY) 2021 data (https://www.ssa.gov/legislation/2021FactSheet.pdf), and the average U.S. worker's hourly wages, as reported by Bureau of Labor Statistics data (https://www.bls.gov/oes/current/oes_nat.htm).
** We based this figure on the average FY 2021 wait times for hearing offices, based on SSA's current management information data.
*** This figure does not represent actual costs that SSA is imposing on recipients of Social Security payments to complete this application; rather, these are theoretical opportunity costs for the additional time respondents will spend to complete the application. There is no actual charge to respondents to complete the application.

Dated: November 17, 2021.
Naomi Sipple,
Reports Clearance Officer, Office of Legislation and Congressional Affairs, Social Security Administration.

[FR Doc. 2021-26376 Filed 12-2-21; 8:45 am]

BILLING CODE 4191-02-P